DEPARTMENT OF AGRICULTURE

Forest Service

Caribou-Targhee National Forest, Fremont County, ID; Wildland Urban Interface Project

AGENCY: Forest Service, USDA.

ACTION: Cancellation of the Notice of Intent to prepare an Environmental Impact Statement for the Wildland Urban Interface Project, as published in the Federal Register pages 30866 to 30867 on May 8, 2002 (Vol. 67, No. 89).

SUMMARY: The USDA, Forest Service has determined that it will not prepare an Environmental Impact Statement to document the analysis and disclose the environmental impacts of the Wildland Urban Interface Project in the Island Park area. In response to public comments, the original, landscape-level fuels reduction proposal is being redesigned at a smaller scale.

Dated: June 19, 2003.
Jerry B. Reese,
Caribou-Targhee National Forest Supervisor.

[FR Doc. 03-15986 Filed 6-24-03; 8:45 am]

BILLING CODE 3410-11-M